DEPARTMENT OF THE INTERIOR

Bureau of Land Management

[NM-030-1430-ET; NMNM 106227]

Public Land Order No. 7592; Withdrawal of Federal Mineral Estate Within the Red Rock Wildlife Area, New Mexico

AGENCY: Bureau of Land Management.

ACTION: Public land order.

SUMMARY: This order withdraws approximately 712 acres of Federal mineral estate from location and entry under the United States mining laws for 20 years for the Bureau of Land Management to protect desert bighorn sheep habitat within the Red Rock Wildlife Area.

EFFECTIVE DATE: December 10, 2003.

FOR FURTHER INFORMATION CONTACT: Philip Rhinehart, BLM Las Cruces Field Office, 1800 Marquess, Las Cruces, New Mexico 88005, 505-525-4426.

Order

By virtue of the authority vested in the Secretary of the Interior by section 204 of the Federal Land Policy and Management Act of 1976, 43 U.S.C. 1714 (2000), it is ordered as follows:

1. Subject to valid existing rights, the Federal mineral estate in the following described lands is hereby withdrawn from location and entry under the United States mining laws, 30 U.S.C. Ch. 2 (2000), to protect desert bighorn sheep habitat within the Red Rock Wildlife Area:

New Mexico Principal Meridian

T. 18 S., R. 18 W.,

Sec. 9, lots 1 to 4, inclusive, S½NE¼SW¼, S½NW¼SE¼, and SE¼SE¼;

Sec. 15, NW¼NW¼ and W½SW¼;

Sec. 16, lots 1 to 5, inclusive, and NW¼SE¼;

Sec. 21, NE¼NE¼, W½NE¼, and W½NW¼;

Sec. 22, NW¼NW¼.

The areas described aggregate approximately 712 acres in Grant County.

2. This withdrawal will expire 20 years from the effective date of this order unless, as a result of a review conducted before the expiration date pursuant to Section 204(f) of the Federal Land Policy and Management Act of 1976, 43 U.S.C. 1714(f) (2000), the Secretary determines that the withdrawal shall be extended.

Dated: October 30, 2003.
Rebecca W. Watson,
Assistant Secretary—Land and Minerals Management.

[FR Doc. 03-30622 Filed 12-9-03; 8:45 am]

BILLING CODE 4310-VC-P